DEPARTMENT OF TRANSPORTATION

Federal Aviation Administration

14 CFR Part 43

[Docket No. FAA-2011-0763; Notice No. 11-05]

RIN 2120-AJ91

Pilot Loading of Navigation and Terrain Awareness Database Updates

AGENCY: Federal Aviation Administration (FAA), DOT.

ACTION: Notice of proposed rulemaking (NPRM).

SUMMARY: The FAA proposes to amend the maintenance regulations by removing from the preventive maintenance category the task of updating databases used in self-contained, front-panel or pedestal-mounted navigation equipment. This change would allow pilots who operate certificated aircraft to update the specified databases and eliminate the requirement for certificated mechanics or repair stations to perform the update. The effect of this revision would be to ensure that pilots using specified navigation equipment have the most current and accurate navigational data and thereby increase aviation safety.

DATES: Send comments on or before December 19, 2011.

ADDRESSES: Send comments identified by docket number [Docket No. FAA-2011-0763; Notice No. 11-05] using any of the following methods:

• Federal eRulemaking Portal: Go to http://www.regulations.gov and follow the online instructions for sending your comments electronically.

• Mail: Send comments to Docket Operations, M-30; U.S. Department of Transportation (DOT), 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-78), as well as at http://DocketsInfo.dot.gov.

Docket: Background documents or comments received may be read at http://www.regulations.gov at any time. Follow the online instructions for accessing the docket or Docket Operations in Room W12-140 of the West Building Ground Floor at 1200 New Jersey Avenue, SE., Washington, DC, between 9 a.m. and 5 p.m., Monday through Friday, except Federal holidays.

FOR FURTHER INFORMATION CONTACT: For technical questions about this rulemaking action, contact Chris Parfitt, Flight Standards Service, Aircraft Maintenance Division—Avionics Maintenance Branch, AFS-360, Federal Aviation Administration, 950 L'Enfant Plaza, SW., Washington, DC 20024; telephone (202) 385-6398; facsimile (202) 385-6474; e-mail chris.parfitt@faa.gov.

For legal questions about this action, contact Viola Pando, Office of the Chief Counsel, Regulations Division—Policy and Adjudication Branch, AGC-210, Federal Aviation Administration, 800 Independence Ave., SW., Washington, DC 20591; telephone (202) 493-5293; e-mail viola.pando@faa.gov.

SUPPLEMENTARY INFORMATION: See the “Additional Information” section for information on how to comment on this proposal and how the FAA will handle comments received. The “Additional Information” section also contains more information about the docket, privacy, and handling of proprietary or confidential business information. In addition, there is information on obtaining copies of related rulemaking documents.

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart III, § 44701(a)(1), section 44703 (a)(D), and section 44711(a)(2). In section 44701(a)(1), the FAA is charged with prescribing regulations and minimum standards in the interest of safety for and the manner of servicing of aircraft appliances. In section 44703(a)(D), the FAA is charged with specifying the capacity in which the holder of a certificate may serve as an airman with respect to an aircraft. Section 44711(a)(2) prohibits any person from serving in any capacity as an airman with respect to a civil aircraft, aircraft appliance used, or intended for use, in air commerce—without an airman certificate authorizing the airman to serve in the capacity for which the certificate was issued. This regulation is within the scope of the cited authority.

I. Overview of the Proposed Rule

This rulemaking would allow pilots of all certificated aircraft equipped with self-contained, front-panel or pedestal-mounted navigational systems (“Nav-Systems”) to update the database. Currently, only pilots of aircraft operated under part 91 (general aviation) are allowed to perform the update. Nav-Systems provide many services for pilots, including navigational information for which accuracy of data is critical to the safe operation of an aircraft. Accuracy of navigational data is achieved by maintaining current data, which is ensured by performing database updates that are typically required every 28 days.

Under the current regulations, except general aviation aircraft, updates to Nav-System databases must be performed by certificated mechanics and repair stations (“qualified personnel”). Consequently, if the database were to expire when the aircraft is not accessible to qualified personnel, the aircraft would have to be operated with an expired database, rerouted to the nearest repair station, or have a certificated mechanic transported to the aircraft to perform the update. Each of these options increase the workload for pilots and air traffic control (ATC), as well as increase the likelihood for data errors caused by pilots during manual input of data. These options also present increased operational costs.

Changes to Nav-System design have made updating databases a simple procedure that any pilot can perform. The FAA established the requirement to have qualified personnel update Nav-System databases to address the complexity of older systems, for which a person needed training and specialized equipment and access to installed equipment to perform the update. Updating newer Nav-Systems is now a simple procedure that does not require special training or specialized equipment. Consequently, the safety concerns that existed when the current regulations were promulgated are no longer valid. We are therefore proposing to end the requirement for qualified personnel to perform database updates because the requirement no longer serves the purpose for which it was established.

If adopted, this rulemaking would reduce workloads for pilots and ATC and reduce compliance-related operational costs. However, it also may have a negative economic impact on certificated mechanics and repair stations that currently perform required updates for affected operations. Aircraft operated under part 121 are less likely to be affected because they are not generally equipped with the Nav-Systems affected by this rulemaking, and they would therefore continue to require the services of qualified personnel.

The FAA has preliminarily determined there would be minimal costs imposed by the proposed rule. In practice, the rule would simply allow the pilot to upload the current database rather than transporting a certificated mechanic to the aircraft, or flying the aircraft to a repair station. Benefits from this proposed rulemaking would include reduced workloads for pilots and ATC, as discussed below in the Background section. This proposed rulemaking would also reduce the potential for error in navigational data. In addition, the proposed rulemaking would foster practices that will contribute to the success of the Next Generation (NexGen) modernization of the National Aerospace System (NAS) as it is implemented, resulting in an overall increase in aviation safety.

II. Background

A. Statement of the Problem

Currently, § 43.3(g) and Appendix A, paragraph (c)(32) require that updates to databases for Nav-Systems installed on aircraft operated under parts 121, 125, 129, 133, 135, and 137 (“certificated operations”) must be performed by qualified personnel. Nav-Systems affected by this rulemaking could be easily updated using a simple procedure that pilots can perform without special training or specialized equipment. The requirement for qualified personnel to perform the update is therefore no longer necessary to ensure the update has been performed properly.

A large percentage of aircraft used in certificated operations are equipped with fully integrated Nav-Systems that rely on data stored in ATC navigational databases. Data stored in a database serve various navigational functions. Those functions include providing coordinates for fixed points in the airspace or on the ground that are used for basic en route navigation, complex departure and arrival navigation, fuel planning, and precise vertical navigation. This data is updated by uploading a current database to the Nav-System, which can be done by inserting a data storage disc into a slot on a front-instrument panel or pedestal-mounted Nav-System, similar to inserting a memory card into a digital camera. Updates of navigation databases are typically required every 28 days.

The regulatory requirement that allows only authorized mechanics and repair stations (hereafter referred to as “qualified personnel”) to upload the most current data imposes a burden on the system in terms of workloads and demands on the National Airspace System (NAS). If the database expires when the aircraft is at a location where qualified personnel are not available to perform the update, the operator must: (1) Operate the aircraft with an expired database under the minimum equipment list (MEL) procedures, (2) reroute the aircraft to an authorized repair station, or (3) transport an authorized mechanic to the aircraft's location. The aircraft also can be flown with an expired navigational database under Minimum Equipment List (MEL) procedures, but doing so imposes more duties on the flightcrew and ATC. Each of these options presents safety concerns and increased operational costs.

In addition, each of these options is problematic because they can increase the flightcrew's and ATC's workload when controlling the affected aircraft. Further, they are costly to the operator. This is particularly true for operations in remote areas. If the operator decides to move the aircraft to a repair station, the increased workload associated with rerouting the aircraft, for both flightcrew and ATC, requires planning an alternative flight route. Similarly, if the decision is to transport qualified personnel to the aircraft, the operator must locate personnel and schedule a flight to the aircraft. If the decision is to operate the aircraft with an expired database, in accordance with applicable regulations and operations specifications, among other tasks, the flightcrew must: (1) Verify fixes before dispatch, (2) verify navigational aid status and suitability for the flight route, and (3) advise ATC that published area navigational (RNAV) procedures, RNAV standard instrument departures, and RNAV airways cannot be used.

RNAV terminal procedures authorizations and some RNAV route authorizations require a current navigational database. Those authorizations typically are denied to anyone operating with an expired database. This is significant because use of RNAV routes and procedures provide a safer, more efficient National Airspace System (NAS).

Changes to the flightcrew's preflight procedures and to ATC duties add to already heavy workloads. ATC's workload is increased because it must assign alternate terminal RNAV procedures and other services to the affected flightcrew. In both cases, the rate of error can be increased either by pilot input of inaccurate data during verification, or by errors in ATC assignments which may occur during redirection of the flight. Both types of error have the potential to compromise aviation safety.

The FAA is committed to increasing aviation safety and creating a more efficient NAS. To that end the FAA has targeted innovative navigational solutions that rely on Nav-Systems, which in turn are dependent on accurate and current databases. For instance, Required Navigation Performance (RNP), an important program for enhancing safety through establishing a high degree of precision air navigation, allows for more efficient use of the airspace. In addition, RNP assists in developing constant angle descent approaches, which increase safety during approach and landing. RNP operations rely on equipment and systems that depend on updateable databases for operational accuracy.

The increasing use of Nav-Systems and the criticality of maintaining current databases for RNP operations under NexGen require that the two work seamlessly and impose no greater burden on the NAS than necessary.

We have tentatively determined that the burdens attendant to compliance with current regulatory requirements for qualified personnel to perform database updates may no longer be justified. Developments in navigational system technology have made it possible for pilots to perform updates properly without special training or equipment. Therefore, a safety-related reason may no longer exist for continuing to require that mechanics and repair stations perform updates for modern Nav-Systems. Absent the safety concerns related to the complexity of updating an older navigational system that served as the impetus for the current requirements, there may no longer be reason to prohibit pilots from performing updates.

B. History

Before 1996, the regulations categorized the task of updating any navigational system database as maintenance because these systems were large, complex, and installed on large transport category aircraft. The FAA required that qualified personnel perform the updates because doing so required special training and specialized equipment. By 1996, a second type of Nav-System was developed that was small, self-contained, and easily accessible. The newer Nav-System was targeted for use on general aviation aircraft because unlike older navigational systems, the new Nav-Systems introduced simple updating procedures that enabled any pilot to update a database without special training or equipment. The FAA addressed this improvement by amending the regulations.

In 1996, the FAA amended § 43.3 and Appendix A of Title 14, Code of Federal Regulations, part 43 (61 FR 19501, May 1, 1996). Among other actions, the amendment allowed owners and operators of general aviation aircraft to update easily updateable Nav-System databases. However, while the amendment allowed GA pilots to perform updates to Nav-Systems, it prohibited pilots of aircraft operated under parts 121, 129, and 135 from updating databases on the older navigational systems. For these operations, the task of updating databases was categorized as maintenance.

Unlike the older systems, the FAA allowed pilots of smaller general aviation aircraft to perform updates to Nav-System databases because the systems were not similar to those installed on aircraft operated under parts 121, 129, and 135. Newer Nav-Systems were self-contained, easily accessible and updated, compact devices. Conversely, navigational systems installed on aircraft operating under parts 121, 129, and 135 were more complex. Those Nav-Systems were frequently composed of two hardware components. One was a central data storage/processing unit (CPU), which was installed in a location remote from the second piece of hardware. The other was the Control Display Unit (CDU), which was installed in the cockpit. Updating the more complex systems requires that qualified personnel use specialized equipment to upload the new data into the CPU.

Since then, the number of newer self-contained Nav-Systems installed on most non-transport category aircraft has increased. Updating a Nav-System database is as simple as inserting a memory card into a digital camera, with automatic verification to the pilot that the update has been successful occurring via display of the update's revision number on the CDU.

III. Discussion of the Proposal

The FAA proposes to amend § 43.3 to allow pilots of aircraft operated under parts 121, 125, 133, 135, and 137 (“certificated operations”) to update Nav-System databases. The task of updating a Nav-System is currently categorized as preventive maintenance under part 43, Appendix A, paragraph (c)(32). As such, § 43.3, which prescribes who may perform maintenance, requires that it be performed by a certificated mechanic or repair station unless that preventive maintenance, as specifically enumerated in Appendix A, “may be performed by the holder of a pilot certificate issued under part 61 on an aircraft owned or operated by that pilot which is not used under part 121, 129, or 135 * * *” (emphasis added).

This proposal would extend authorization for pilots on all certificated operations to perform Nav-System database updates. The FAA has determined that the ease of successfully updating modern Nav-Systems remains the same regardless of the regulatory part under which the aircraft is operated.

We are proposing to remove paragraph (c)(32) from part 43, Appendix A, which will remove from the preventive maintenance category the task of updating “* * * self-contained front-instrument panel and pedestal-mounted air traffic control (ATC) navigational software databases (excluding those of automatic flight control systems, transponders, and microwave frequency distance measuring equipment (DME)), provided no disassembly of the unit is required and pertinent instructions are provided.” The effect of removing paragraph (c)(32) will be to allow pilots to update Nav-System databases.

Note that the regulatory text refers to the newer systems targeted by this rulemaking as navigational systems. For purposes of discussion, in this preamble, we have used the term “navigational system” to refer to older systems, and “Nav-System” to refer to the newer systems targeted by this rulemaking.

The FAA has considered two alternatives to this proposed rulemaking. One alternative was to continue to require that qualified personnel perform updates to Nav-System databases installed on certificated operations. The FAA has tentatively rejected this alternative for three reasons. First, the original reasons for creating the requirement appear to have been invalidated by technology. Second, eliminating the existing requirements for qualified personnel to perform the update will reduce pilot and ATC workloads and reduce the likelihood that pilots will input inaccurate data into the Nav-System. The cumulative effect of reduced workloads and elimination of data errors ultimately would improve aviation safety. Third, the costs imposed on operators to ensure compliance with the existing requirements may no longer be justified now that special training and equipment is not required, and safety would not be compromised by allowing pilots to perform the update.

The second alternative considered was continuing to use the exemption process as need is demonstrated by operators to enable pilots of aircraft not operated under part 91 to update Nav-System databases. However, this approach would not reduce the numerous petitions for exemption submitted for aircraft operations conducted under parts 121, 129, and 135, which would force the FAA to continue processing an excessive number of exemptions with a limited workforce, thus requiring the agency use valuable manpower for administrative purposes. Finally, the cumulative effect of granting large numbers of petitions for exemption from the same regulation for the same reason(s) would be the equivalent of rulemaking by exemption.

For the reasons cited above, the FAA has determined that amending the regulations to allow pilots on any certificated aircraft equipped with a specified Nav-System to update databases would improve aviation safety, would be economically beneficial to operators, and would enable the FAA to use manpower in areas of greater need.

IV. Regulatory Notices and Analyses

Paperwork Reduction Act

The Paperwork Reduction Act of 1995 (44 U.S.C. 3507(d)) requires that the FAA consider the impact of paperwork and other information collection burdens imposed on the public. The FAA has determined that there would be no new requirement for information collection associated with this proposed rule.

International Compatibility

In keeping with U.S. obligations under the Convention on International Civil Aviation, it is FAA policy to comply with International Civil Aviation Organization (ICAO) Standards and Recommended Practices to the maximum extent practicable. The FAA has reviewed the corresponding ICAO Standards and Recommended Practices and has identified no differences with these regulations.

Regulatory Evaluation, Regulatory Flexibility Determination, International Trade Impact Assessment, and Unfunded Mandates Assessment

Changes to Federal regulations must undergo several economic analyses. First, Executive Orders 12866 and 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a federal mandate likely to result in the expenditure by state, local, or Tribal governments, in the aggregate, or by the private sector, of $100 million or more annually (adjusted for inflation with base year of 1995). This portion of the preamble summarizes the FAA's analysis of the economic impacts of this proposed rule.

In conducting these analyses, FAA has determined that this proposed rule: (1) Has benefits that justify its costs, (2) is not an economically “significant regulatory action” as defined in section 3(f) of Executive Order 12866, (3) is not “significant” as defined in DOT's Regulatory Policies and Procedures, (4) would not have a significant economic impact on a substantial number of small entities, (5) would not create unnecessary obstacles to the foreign commerce of the United States, and (6) would not impose an unfunded mandate on state, local, or Tribal governments, or on the private sector by exceeding the threshold identified above.

Department of Transportation Order DOT 2100.5 prescribes policies and procedures for simplification, analysis, and review of regulations. If the expected cost impact is so minimal that a proposed or final rule does not warrant a full evaluation, this order allows that a statement to that effect and the basis for it to be included in the preamble if a full regulatory evaluation of the cost and benefits is not prepared. Such a determination has been made for this proposed rule. The reasoning for this determination follows:

The proposed rule would reduce costs to certificated operators by allowing their pilots to update databases for self-contained navigation systems installed either in the front panel or pedestal-mounted in the cockpit. Allowing pilots to perform the updates would occasionally save the operator the expense of either a positioning flight to a repair station or transporting a certificated mechanic to the aircraft to perform the database update.

The FAA has, therefore, determined that this proposed rule is not a “significant regulatory action” as defined in section 3(f) of Executive Order 12866, and this proposed rule is not “significant” as defined in DOT's Regulatory Policies and Procedures.

Total Estimated Benefits and Costs of This Final Rule

There would be two general benefits from this proposed rule. The primary benefit would be that affected aircraft operators would no longer operate aircraft without the most current navigational data. As previously discussed, the use of Nav-Systems improves safety by providing the pilot with accurate navigational information, by increasing access to airports under less than optimal flight conditions, by increasing workforce efficiency and by encouraging a more efficient use of the navigable airspace system. Nav-System database software is updated every 28 days, a recurring task that cannot always be accomplished within the prescribed timeframe due to the unavailability of qualified personnel. Increasing airspace congestion as well as the increasing number of non-Part 91 aircraft that are equipped with Nav-Systems magnifies the importance for Nav-Systems to be operating with the most current data. Further, the FAA knows of no accidents or incidents attributable to pilot error when part 91 pilots updated navigational database software.

The second benefit would be potential cost savings. Allowing pilots to update Nav-System databases for aircraft used on certificated operations would eliminate costs associated with positioning flights to a repair station or transporting a certificated mechanic to the aircraft. Estimates from an industry source indicate that the cost of a single positioning flight could range between $1,000 and $2,500 and that, depending upon the circumstances, the cost to transport a certified mechanic to an aircraft are similar. The FAA does not have an estimate of the number of times an aircraft with an expiring database would require one of these actions to occur. As such, the FAA cannot estimate a total potential cost-savings from this proposed rule because the annual savings would depend upon how often these aircraft encounter expired database conditions and whether the aircraft is flown to a repair station or whether a mechanic is transported to the aircraft.

The FAA requests comments on the number of positioning flights conducted annually for the purpose of updating a database and the average cost of such a flight, or, alternatively, the costs of transporting mechanics to the aircraft. Further, for those situations where the aircraft is operated with an expired database, an estimate of pilot time expended manually checking database information for accuracy.

This proposed rule is cost-relieving because an operator would be able to choose a pilot or a mechanic to upload data into navigational systems, whereas today, only a certificated mechanic or a repair station can perform the upload.

Who is potentially affected by this rule?

This proposed rule would affect all operators of certificated aircraft equipped with self-contained, front-instrument panel or pedestal-mounted navigational equipment. Large transport category airplanes generally operated under Part 121 and manufactured by Boeing, Airbus, McDonnell-Douglas, Bombardier, and Embraer are equipped with larger and more sophisticated navigational systems that would not be affected by the proposed rulemaking. Based on a preliminary review, the FAA has determined that there are no aircraft currently operated under parts 121 and 129 that are equipped with the Nav-Systems targeted by this rulemaking. We request comments on this determination.

The avionics equipment for many smaller aircraft used in part 135 operations are in self-contained, front-instrument panel or pedestal-mounted units. However, this is optional equipment, and older aircraft may not have it. Many of these aircraft are operated under part 91, and pilots operating under part 91 are currently allowed to upload these software updates in these aircraft.

Assumptions and Sources of Information

The primary sources of information were a part 135 operator that would be affected by the proposed rule and an aircraft electronics association representative.

Costs of This Proposed Rule

The FAA has preliminarily determined that there would be minimal costs imposed by the proposed rule because it would simply allow a pilot to upload the current Nav-System database that currently must be performed by a certificated mechanic or in a repair station. Thus, instead of having to call out a certificated mechanic or repair station, or even fly the aircraft to a certificated mechanic or repair station, the pilot could perform the update before the next flight. Time spent by the pilot uploading the current database software and completing the required records would be part of the pilot's flight duty time for which the pilot would not receive additional compensation.

Although the pilot would need to complete the paperwork demonstrating that the update had been performed, without the rule change, a certificated mechanic or repair station would still be required to complete the same paperwork.

However, the FAA anticipates that the majority of these updates would continue to be completed by a certificated mechanic or repair station as part of the standard maintenance that the aircraft would undergo.

Benefits of This Proposed Rule

The Nav-System databases must be updated every 28 days. For certain part 135 operators, there may be situations when the aircraft is being operated in remote areas and may not be scheduled to return to the home base for several days. Under those circumstances and the current rule, the part 135 operator would either have to make a positioning flight to the home base or to a repair station or transport a certificated mechanic to the aircraft. Estimates from an industry source indicate that the cost of a single positioning flight could range between $1,000 and $2,500 and that, depending upon the circumstances, the cost to transport a certified mechanic to an aircraft are similar.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a proposed rule would have a significant economic impact on a substantial number of small entities. If the agency determines that it would, the agency must prepare an initial regulatory flexibility analysis as described in the RFA. However, if an agency determines that a proposed rule is not expected to have a significant economic impact on a substantial number of small entities, section 605(b) of the RFA provides that the head of the agency may so certify and a regulatory flexibility analysis is not required. The certification must include a statement providing the factual basis for this determination, and the reasoning should be clear.

The net effect of this proposed rule would be to provide regulatory cost relief. As this proposed rule would reduce costs for small entities, the FAA certifies that this proposed rule would not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as protection of safety, and does not operate in a manner that excludes imports that meet this objective. The statute also requires consideration of international standards and, where appropriate, that they be the basis for U.S. standards. We assessed the potential effect of this proposed rule and determined that it would not constitute an obstacle to the foreign commerce of the United States, and, thus, is consistent with the Trade Assessments Act.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by state, local, and Tribal governments, in the aggregate, or by the private sector; such a mandate is deemed to be a “significant regulatory action.” The FAA currently uses an inflation-adjusted value of $140.8 million in lieu of $100 million. This proposed rule does not contain such a mandate; therefore, the requirements of Title II do not apply to this proposal.

Environmental Analysis

FAA Order 1050.1E identifies FAA actions that are categorically excluded from preparation of an environmental assessment or environmental impact statement under the National Environmental Policy Act in the absence of extraordinary circumstances. The FAA has determined this rulemaking action qualifies for the categorical exclusion identified in paragraph 312(f) of the Order and involves no extraordinary circumstances.

Executive Order 13132, Federalism

The FAA has analyzed this proposed rule under the principles and criteria of Executive Order 13132, Federalism. The agency has determined that this action would not have a substantial direct effect on the States, or the relationship between the Federal Government and the States, or on the distribution of power and responsibilities among the various levels of government, and, therefore, would not have Federalism implications.

Executive Order 13211, Regulations That Significantly Affect Energy Supply, Distribution, or Use

The FAA analyzed this proposed rule under Executive Order 13211, Actions Concerning Regulations that Significantly Affect Energy Supply, Distribution, or Use (May 18, 2001). The agency has determined that it would not be a “significant energy action” under the executive order and would not be likely to have a significant adverse effect on the supply, distribution, or use of energy.

VI. Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel about this proposed rulemaking. Before acting on this proposal, the FAA will consider all comments it receives on or before the closing date for comments. The FAA will consider comments filed after the comment period has closed if it is possible to do so without incurring expense or delay. The agency may change this proposal in light of the comments it receives.

Proprietary or Confidential Business Information: Commenters should not file proprietary or confidential business information in the docket. Such information must be sent or delivered directly to the person identified in the FOR FURTHER INFORMATION CONTACT section of this document, and marked as proprietary or confidential. If submitting information on a disc or Compact Disc Read-Only Memory (CD-ROM), mark the outside of the disc or CD-ROM, and identify electronically within the disc or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies; or

3. Accessing the Government Printing Office's Web page at http://www.gpoaccess.gov/fr/index.html.

Copies may also be obtained by sending a request to the Federal Aviation Administration, Office of Rulemaking, ARM-1, 800 Independence Avenue, SW., Washington, DC 20591, or by calling (202) 267-9680. Commenters must identify the docket or notice number of this rulemaking.

All documents the FAA considered in developing this proposed rule, including economic analyses and technical reports, may be accessed from the Internet through the Federal eRulemaking Portal referenced in item (1) above.

List of Subjects in 14 CFR Part 43

Aircraft, Aviation safety, Reporting and recordkeeping requirements.

The Proposed Amendment

In consideration of the foregoing, the Federal Aviation Administration proposes to amend part 43 of Title 14, Code of Federal Regulations, as follows:

PART 43—MAINTENANCE, PREVENTIVE MAINTENANCE, REBUILDING, AND ALTERATION

1. The authority citation for part 43 continues to read as follows:

Authority: 49 U.S.C. 106(g), 40113, 44701, 44703, 44705, 44707, 44711, 44713, 44717, 44725.

2. Amend § 43.3 by adding paragraph (k) to read as follows:

§ 43.3 Persons authorized to perform maintenance, preventive maintenance, rebuilding, and alterations.

* * * * *

(k) The holder of a pilot certificate issued under part 61 of this chapter may perform updating of self-contained, front-instrument panel-mounted and pedestal-mounted air traffic control (ATC) navigational system databases (excluding those of automatic flight control systems, transponders, and microwave frequency distance measuring equipment (DME), and any updates that affect system operating software) provided—

(1) No disassembly of the unit is required;

(2) The pilot has written procedures available to perform and evaluate the accomplishment of the task; and

(3) The database is contained in a field-loadable configuration and imaged on a medium, such as a Compact Disc Read-Only Memory (CD-ROM), Synchronous Dynamic Random-Access Memory (SDRAM), or other non- volatile memory that contains database files that are non-corruptible upon loading, and where integrity of the load can be assured and verified by the pilot upon completing the loading sequences.

(4) Records of when such database uploads have occurred, the revision number of the software, and who performed the upload must be maintained.

(5) The data to be uploaded must not contain system operating software revisions.

Appendix A to Part 43 [Amended]

3. Amend Appendix A to part 43 by removing paragraph (c)(32).

Issued in Washington, DC, on August 31, 2011.
John W. McGraw,
Deputy Director, Flights Standards Service.

[FR Doc. 2011-27036 Filed 10-18-11; 8:45 am]

BILLING CODE 4910-13-P